FEDERAL COMMUNICATIONS COMMISSION

Notice of Public Information Collection(s) Being Reviewed by the Federal Communications Commission

August 13, 2003.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act (PRA) that does not display a valid control number. Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before September 18, 2003. If you anticipate that you will be submitting PRA comments, but find it difficult to do so within the period of time allowed by this notice, you should advise the contact listed below as soon as possible.

ADDRESSES: Direct all Paperwork Reduction Act (PRA) comments to Judith B. Herman, Federal Communications Commission, Room 1-C804, 445 12th Street, SW., DC 20554 or via the Internet to Judith-B.Herman@fcc.gov.

FOR FURTHER INFORMATION CONTACT: For additional information or copies of the information collection(s), contact Judith B. Herman at 202-418-0214 or via the Internet at Judith-B.Herman@fcc.gov.

SUPPLEMENTARY INFORMATION: OMB Control No.: 3060-0917.

Title: CORES Registration Form.

Form No.: FCC Form 160.

Type of Review: Extension of a currently approved collection.

Respondents: Individuals or households, business or other for-profit, not-for-profit institutions, state, local or tribal government.

Number of Respondents: 134,500.

Estimated Time Per Response: .166 hours (ten minutes).

Frequency of Response: One time reporting requirement.

Total Annual Burden: 22,327 hours.

Total Annual Cost: N/A.

Needs and Uses: FCC Form 160 is used for the manual registration of the Commission's Registration System (CORES). This form will collect data that pertains to entity name, address, contact representative, telephone number, e-mail address and fax number. The information will be used by the FCC for the purpose of collecting and reporting on any delinquent amounts arising out of such person's relationship with the Government. The FCC Registration Number (FRN) is issued by the Commission as a unique business account number for identification purposes only. The Commission is submitting this information collection as an extension (no change) to the Office of Management and Budget for the full three-year clearance.

OMB Control No.: 3060-0918.

Title: CORES Update/Change Form.

Form No.: FCC Form 161.

Type of Review: Extension of a currently approved collection.

Respondents: Individuals or households, business or other for-profit, not-for-profit institutions, state, local or tribal government.

Number of Respondents: 21,000.

Estimated Time Per Response: .166 hours (ten minutes).

Frequency of Response: On occasion reporting requirement.

Total Annual Burden: 3,486 hours.

Total Annual Cost: N/A.

Needs and Uses: FCC Form 161 is used or the Commission's Registration System (CORES). This form will be used to update/change entity name, address, contact representative, telephone number, e-mail address and fax number. The information will be used by the FCC for the purpose of collecting and reporting on any delinquent amounts arising out of such person's relationship with the Government. It will also be used to update/change information in the Commission's database. The FCC Registration Number (FRN) is issued by the Commission as a unique business account number for identification purposes only. The Commission is submitting this information collection as an extension (no change) to the Office of Management and Budget for the full three-year clearance.

OMB Control No.: 3060-0919.

Title: CORES Certification Form.

Form No.: FCC Form 162.

Type of Review: Extension of a currently approved collection.

Respondents: Individuals or households, business or other for-profit, not-for-profit institutions, state, local or tribal government.

Number of Respondents: 200.

Estimated Time Per Response: .084 hours (five minutes).

Frequency of Response: One time reporting requirement.

Total Annual Burden: 17 hours.

Total Annual Cost: N/A.

Needs and Uses: The FCC Form 162 is a form that must accompany any non-feeable manual application form submitted to the Commission. It is used to service public inquiries and comply with the Debt Collection Improvement Act of 1996. It is also used during the transition period to implement the CORES system to certify entities FCC Registration Number (FRN). Finally, the FRN has affected approximately 60 application forms and will require these forms to change to include the FRN. During the transition period, the FCC Form 162 is used until all the forms have been updated. As the forms come up for extension or revision, the FRN will be added on the form(s). The information will be used by the FCC for the purpose of collecting and reporting on any delinquent amounts arising out of such person's relationship with the Government. The FCC Registration Number (FRN) is issued by the Commission as a unique business account number for identification purposes only. The Commission is submitting this information collection as an extension (no change) to the Office of Management and Budget for the full three-year clearance.

Federal Communications Commission.
Marlene H. Dortch,
Secretary.

[FR Doc. 03-21166 Filed 8-18-03; 8:45 am]

BILLING CODE 6712-01-P